DEPARTMENT OF ENERGY

Federal Energy Regulatory Commission

Combined Notice of Filings #2

Take notice that the Commission received the following electric rate filings:

Docket Numbers: ER16-2706-001.

Applicants: Idaho Power Company.

Description: Compliance filing: Amendment to LGIA/SGIA Order Nos. 827 and 828 Combined Compliance Filing to be effective 11/30/2016.

Filed Date: 11/15/16.

Accession Number: 20161115-5095.

Comments Due: 5 p.m. ET 12/6/16.

Docket Numbers: ER17-33-001.

Applicants: Breadbasket LLC.

Description: Tariff Amendment: Amend Cancellation MBR Filing to be effective 10/6/2016.

Filed Date: 11/15/16.

Accession Number: 20161115-5051.

Comments Due: 5 p.m. ET 12/6/16.

Docket Numbers: ER17-228-001.

Applicants: King Forest Industries, Inc.

Description: Tariff Amendment: Amended MBR Application to be effective 12/1/2016.

Filed Date: 11/15/16.

Accession Number: 20161115-5086.

Comments Due: 5 p.m. ET 12/6/16.

Docket Numbers: ER17-351-000.

Applicants: American Falls Solar, LLC.

Description: Baseline eTariff Filing: American Falls Solar LLC MBR Application to be effective 1/5/2017.

Filed Date: 11/15/16.

Accession Number: 20161115-5057.

Docket Numbers: ER17-352-000.

Applicants: New York Independent System Operator, Inc.

Description: § 205(d) Rate Filing: NYISO NYSEG Greenidge joint filing LGIA 2305 to be effective 10/31/2016.

Filed Date: 11/15/16.

Accession Number: 20161115-5110.

Comments Due: 5 p.m. ET 12/6/16.

Docket Numbers: ER17-353-000.

Applicants: Southwest Power Pool, Inc.

Description: § 205(d) Rate Filing: Bylaws Revisions to Expand Strategic Planning Committee and Oversight Committee to be effective 1/14/2017.

Filed Date: 11/15/16.

Accession Number: 20161115-5120.

Comments Due: 5 p.m. ET 12/6/16.

Docket Numbers: ER17-354-000.

Applicants: American Falls Solar II, LLC.

Description: Baseline eTariff Filing: American Falls Solar II MBR Application Filing to be effective 1/5/2017.

Filed Date: 11/15/16.

Accession Number: 20161115-5129.

Comments Due: 5 p.m. ET 12/6/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2016.
Nathaniel J. Davis, Sr.,
Deputy Secretary.

[FR Doc. 2016-28079 Filed 11-21-16; 8:45 am]

BILLING CODE 6717-01-P